DEPARTMENT OF LABOR

Employment and Training Administration

[TA-W-72,314]

Air System Components Including On-Site Leased Workers From Dmdickason Personnel El Paso, TX; Amended Certification Regarding Eligibility To Apply for Worker Adjustment Assistance

In accordance with Section 223 of the Trade Act of 1974, as amended (“Act”), 19 U.S.C. 2273, the Department of Labor issued a Certification of Eligibility to Apply for Worker Adjustment Assistance on October 23, 2009, applicable to workers of Air System Components, including on-site leased workers from DmDickason Personnel, El Paso, Texas. The notice will be published soon in the Federal Register.

At the request of the State Agency, the Department reviewed the certification for workers of the subject firm. The workers are engaged in the production of ventilation fans.

The review shows that on May 31, 2007, a certification of eligibility to apply for adjustment assistance was issued for all workers of Air System Components, Inc., El Paso Division, El Paso, Texas, separated from employment on or after April 20, 2006 through May 31, 2009. The notice was published in the Federal Register on June 14, 2007 (72 FR 32917).

In order to avoid an overlap in worker group coverage, the Department is amending the September 8, 2008 impact date established for TA-W-72,314, to read June 1, 2009.

The amended notice applicable to TA-W-72,314 is hereby issued as follows:

All workers of Air System Components, including on-site leased workers from DmDickason Personnel, El Paso, Texas, who became totally or partially separated from employment on or after June 1, 2009, through October 23, 2011, and all workers in the group threatened with total or partial separation from employment on date of certification through two years from the date of certification, are eligible to apply for adjustment assistance under Chapter 2 of Title II of the Trade Act of 1974, as amended.

Signed in Washington, DC, this 20th day of November, 2009.
Richard Church,
Certifying Officer, Division of Trade Adjustment Assistance.

[FR Doc. E9-29505 Filed 12-10-09; 8:45 am]

BILLING CODE 4510-FN-P